DEPARTMENT OF COMMERCE

International Trade Administration

[A-580-839]

Certain Polyester Staple Fiber From Korea: Rescission of Antidumping Duty Administrative Review

AGENCY: Import Administration, International Trade Administration, Department of Commerce.

FOR FURTHER INFORMATION CONTACT: Sergio Balbontin or Mary Kolberg, AD/CVD Operations, Office 1, Import Administration, U.S. Department of Commerce, 14th Street and Constitution Avenue, NW., Washington, DC 20230; telephone (202) 482-6478 and (202) 482-1785, respectively.

SUPPLEMENTARY INFORMATION:

Background

On May 2, 2011, the U.S. Department of Commerce (“Department”) published a notice of opportunity to request an administrative review of the antidumping order on polyester staple fiber from Korea. See Antidumping or Countervailing Duty Order, Finding, or Suspended Investigation; Opportunity To Request Administrative Review, 76 FR 24460-01 (May 2, 2011). On May 31, 2011, in accordance with 19 CFR 351.213(b), the Department received a timely request from DAK Americas LLC, and Auriga Polymers, Inc., successor to Invista, S.a.r.L. (collectively, “Petitioners”) to conduct an administrative review of Huvis Corporation (“Huvis”) and Woongjin Chemical Co., Ltd. (“Woongjin”) for the period of review May 1, 2010, through April 30, 2011. On May 27, and May 31, 2011, the Department also received timely administrative review requests from Huvis and Woongjin, respectively. On June 10, 2011, we informed Petitioners, Huvis, and Woongjin that their submissions did not conform to the Department's revised 19 CFR 351.303(g) certification language as announced in Certification of Factual Information to Import Administration During Antidumping and Countervailing Duty Proceedings: Interim Final Rule, 76 FR 7491 (February 10, 2011). Petitioners, Huvis, and Woongjin submitted the correct certification language in a timely manner.

On June 28, 2011, in accordance with 19 CFR 351.221(c)(1)(i), the Department published the notice of initiation of this administrative review. See Initiation of Antidumping and Countervailing Duty Administrative Reviews and Request for Revocation in Part, 76 FR 37781 (June 28, 2011).

Scope of the Order

Polyester staple fiber covered by the scope of the order is defined as synthetic staple fibers, not carded, combed or otherwise processed for spinning, of polyesters measuring 3.3 decitex (3 denier, inclusive) or more in diameter. This merchandise is cut to lengths varying from one inch (25 mm) to five inches (127 mm). The merchandise subject to the order may be coated, usually with a silicon, or other finish, or not coated. Polyester staple fiber is generally used as stuffing in sleeping bags, mattresses, ski jackets, comforters, cushions, pillows, and furniture. Merchandise of less than 3.3 decitex (less than 3 denier) currently classifiable in the Harmonized Tariff Schedule of the United States (“HTSUS”) at subheading 5503.20.00.25 is specifically excluded from the order. Also, specifically excluded from the order are polyester staple fibers of 10 to 18 denier that are cut to lengths of 6 to 8 inches (fibers used in the manufacture of carpeting). In addition, low-melt polyester staple fiber is excluded from the order. Low-melt polyester staple fiber is defined as a bi-component fiber with an outer sheath that melts at a significantly lower temperature than its inner core.

The merchandise subject to the order is currently classifiable in the HTSUS at subheadings 5503.20.00.45 and 5503.20.00.65. The HTSUS subheadings are provided for convenience and customs purposes only; the written description of the merchandise covered by the scope of the order is dispositive.

Rescission of Antidumping Administrative Review

Pursuant to 19 CFR 351.213(d)(1), the Secretary will rescind an administrative review, in whole or in part, if the party who requested the administrative review withdraws the request within 90 days of the date of publication of the notice of initiation of the requested administrative review. On June 28, and July 11, 2011, Petitioners withdrew their request for an administrative review of Huvis and Woongjin, respectively. On July 7, and July 11, 2011, Woongjin and Huvis, respectively, withdrew their requests for an administrative review.

As Petitioners, Huvis, and Woongjin withdrew their requests for an administrative review within the 90-day period, the Department is rescinding this administrative review.

Assessment Instructions

The Department will instruct U.S. Customs and Border Protection (“CBP”) to assess antidumping duties at the cash deposit rate in effect at the time of entry or withdrawal from warehouse for consumption in accordance with 19 CFR 351.212(c)(1)(i). The Department intends to issue appropriate assessment instructions to CBP 15 days after publication of this notice of rescission of administrative review.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

Notification Regarding Administrative Protective Order

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing these results in accordance with sections 751(a)(1) and 777(i)(1) of the Tariff Act, as amended, and 19 CFR 351.213(d)(4).

Dated: August 18, 2011.
Gary Taverman,
Acting Deputy Assistant Secretary for Antidumping and Countervailing Duty Operations.

[FR Doc. 2011-21664 Filed 8-23-11; 8:45 am]

BILLING CODE 3510-DS-P